DEPARTMENT OF ENERGY

Federal Energy Regulatory Commission

Combined Notice of Filings

Take notice that the Commission has received the following Natural Gas Pipeline Rate and Refund Report filings:

Filings Instituting Proceedings

Docket Numbers: RP14-347-000.

Applicants: Gulf Crossing Pipeline Company LLC.

Description: Amendment to Neg Rate Agmt (BP37-14) to be effective 1/7/2014.

Filed Date: 1/3/14.

Accession Number: 20140103-5027.

Comments Due: 5 p.m. ET 1/15/14.

Docket Numbers: RP14-348-000.

Applicants: TransColorado Gas Transmission Company L.

Description: DART Electronic Execution Update to be effective 2/3/2014.

Filed Date: 1/3/14.

Accession Number: 20140103-5044.

Comments Due: 5 p.m. ET 1/15/14.

Docket Numbers: RP14-349-000.

Applicants: Wyoming Interstate Company, L.L.C.

Description: Request for Limited Waivers of Wyoming Interstate Company, L.L.C.

Filed Date: 1/3/14.

Accession Number: 20140103-5069.

Comments Due: 5 p.m. ET 1/15/14.

Docket Numbers: RP14-350-000.

Applicants: Enable Gas Transmission, LLC.

Description: Negotiated Rate Filing—January 2014—Tenaska 9840 Att A to be effective 1/3/2014.

Filed Date: 1/3/14.

Accession Number: 20140103-5096.

Comments Due: 5 p.m. ET 1/15/14.

Docket Numbers: RP14-351-000.

Applicants: Iroquois Gas Transmission System, L.P.

Description: 01/06/14 Negotiated Rates—JP Morgan Ventures Energy Corp (HUB) 6025-89 to be effective 1/3/2014.

Filed Date: 1/6/14.

Accession Number: 20140106-5079.

Comments Due: 5 p.m. ET 1/21/14.

Docket Numbers: RP14-352-000.

Applicants: Iroquois Gas Transmission System, L.P.

Description: 01/06/14 Negotiated Rates—Sequent Energy Management (HUB) 3075-89 to be effective 1/3/2014.

Filed Date: 1/6/14.

Accession Number: 20140106-5080.

Comments Due: 5 p.m. ET 1/21/14.

Docket Numbers: RP14-353-000.

Applicants: Iroquois Gas Transmission System, L.P.

Description: 01/06/14 Negotiated Rates—Trafigura AG (HUB) 7445-89 to be effective 1/3/2014.

Filed Date: 1/6/14.

Accession Number: 20140106-5081.

Comments Due: 5 p.m. ET 1/21/14.

Docket Numbers: RP14-354-000.

Applicants: Texas Eastern Transmission, LP.

Description: Customer Name Changes Jan 2014 Cleanup to be effective 2/7/2014.

Filed Date: 1/7/14.

Accession Number: 20140107-5024.

Comments Due: 5 p.m. ET 1/21/14.

Docket Numbers: RP14-355-000.

Applicants: Texas Eastern Transmission, LP.

Description: Negotiated Rate Agreements Cleanup Jan 2014 to be effective 2/7/2014.

Filed Date: 1/7/14.

Accession Number: 20140107-5055.

Comments Due: 5 p.m. ET 1/21/14.

Docket Numbers: RP14-356-000.

Applicants: Algonquin Gas Transmission, LLC.

Description: Negotiated Rate Agreements Cleanup—Jan2014 to be effective 2/7/2014.

Filed Date: 1/7/14.

Accession Number: 20140107-5077.

Comments Due: 5 p.m. ET 1/21/14.

Docket Numbers: RP14-357-000.

Applicants: Algonquin Gas Transmission, LLC.

Description: Non-conforming Agreements Cleanup—Jan 2014 to be effective 2/7/2014.

Filed Date: 1/7/14.

Accession Number: 20140107-5116.

Comments Due: 5 p.m. ET 1/21/14.

Docket Numbers: RP14-358-000.

Applicants: Dauphin Island Gathering Partners.

Description: Negotiated Rates 1-6-14 to be effective 1/8/2014.

Filed Date: 1/7/14.

Accession Number: 20140107-5127.

Comments Due: 5 p.m. ET 1/21/14.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 8, 2014.
Nathaniel J. Davis, Sr.,
Deputy Secretary.

[FR Doc. 2014-00589 Filed 1-14-14; 8:45 am]

BILLING CODE 6717-01-P